DEPARTMENT OF THE TREASURY

Office of Foreign Assets Control

Notice of OFAC Sanctions Actions.

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available on OFAC's website (https://www.treasury.gov/ofac).

Notice of OFAC Actions

On August 21, 2019, OFAC determined that the property and interests in property subject to U.S. jurisdiction of the following persons are blocked under the relevant sanctions authority listed below.

Individuals

Entities

1. QINSHENG PHARMACEUTICAL TECHNOLOGY CO., LTD. (a.k.a. SHANGHAI QINSHENG PHARMACEUTICAL SCIENCE & TECHNOLOGY CO., LTD.; a.k.a. SHANGHAI QINSHENG PHARMACEUTICAL SCIENCE AND TECHNOLOGY CO., LTD.; a.k.a. SHANGHAI QINSHENG PHARMACEUTICAL TECHNOLOGY CO., LTD.), Room 614, Floor 3, No. 1, Alley 468, New Siping Highway, Shanghai 201413, China; Room 614, Floor 3, Block 1, Lane 468, Xinsiping Highway, Fengxian District, Shanghai, China; website www.qinvictory.com [SDNTK]. Designated pursuant to section 805(b)(3) of the Kingpin Act, 21 U.S.C. 1904(b)(3), for being owned, controlled, or directed by, or acting for or on behalf of Fujing Zheng, a foreign person identified as a significant foreign narcotics trafficker pursuant to the Kingpin Act.

2. ZHENG DRUG TRAFFICKING ORGANIZATION, Shanghai, China; website www.globalrc.net; alt. Website www.goldenrc.com; alt. Website www.toplabrc.com; Email Address MagicChemical@hotmail.com; alt. Email Address goldenchemical@live.com; alt. Email Address 3507656950@qq.com; alt. Email Address sales@globalrc.net [SDNTK]. Identified as a significant foreign narcotics trafficker pursuant to section 805(b)(1) of the Kingpin Act, 21 U.S.C. 1904(b)(1).

Dated: August 21, 2019.
Andrea M. Gacki,
Director, Office of Foreign Assets Control.

[FR Doc. 2019-18283 Filed 9-3-19; 8:45 am]

BILLING CODE 4810-AL-P